INTERNATIONAL TRADE COMMISSION

[Investigation 332-325]

The Economic Effects of Significant U.S. Import Restraints: Sixth Update

AGENCY: United States International Trade Commission.

ACTION: Notice of sixth update report and scheduling of public hearing.

SUMMARY: This notice announces the schedule and scope of the Commission's sixth update report in investigation No. 332-325, The Economic Effects of Significant U.S. Import Restraints, including the expansion in scope to include a summary of the major steps and results of U.S. trade liberalizing efforts since 1934 and effects of liberalization as reported in the economic literature, as requested in the U.S. Trade Representative's (USTR) letter received on August 22, 2008. This series of reports was originally requested in a letter from the USTR dated May 15, 1992.

DATES: December 2, 2008: Deadline for filing requests to appear at the public hearing.

December 11, 2008: Deadline for filing pre-hearing briefs and statements.

January 8, 2009: Public hearing.

February 6, 2009: Deadline for filing post-hearing briefs and statements.

August 20, 2009: Transmittal of Commission report to USTR.

ADDRESSES: All Commission offices, including the Commission's hearing rooms, are located in the United States International Trade Commission Building, 500 E Street SW., Washington, DC. All written submissions should be addressed to the Secretary, United States International Trade Commission, 500 E Street SW., Washington, DC 20436. The public record for this investigation may be viewed on the Commission's electronic docket (EDIS) at http://www.usitc.gov/secretary/edis.htm.

FOR FURTHER INFORMATION CONTACT: William Deese, Project Leader (william.deese@usitc.gov or 202-205-2626) or Kyle Johnson, Deputy Project Leader (kyle.johnson@usitc.gov or 202-205-3229) for information specific to this sixth update report. For information on the legal aspects of this investigation, contact William Gearhart of the Commission's Office of the General Counsel (202-205-3091 or william.gearhart@usitc.gov). The media should contact Margaret O'Laughlin, Office of External Relations (202-205-1819 or margaret.olaughlin@usitc.gov). Hearing-impaired individuals may obtain information on this matter by contacting the Commission's TDD terminal at 202-205-1810. General information concerning the Commission may also be obtained by accessing its Internet server (http://www.usitc.gov). Persons with mobility impairments who will need special assistance in gaining access to the Commission should contact the Office of the Secretary at 202-205-2000.

Background: The Commission instituted this investigation under section 332(g) of the Tariff Act of 1930 (19 U.S.C. 1332(g)) following receipt on May 15, 1992 of a request from the USTR. The request asked that the Commission conduct an investigation assessing the quantitative economic effects of significant U.S. import restraints on the U.S. economy and prepare periodic update reports after the initial report. The Commission published a notice of institution of the investigation in the Federal Register of June 17, 1992 (57 FR 27063). The first report was delivered to the USTR in November 1993, the first update in December 1995, the second update in May 1999, the third update in June 2002, the fourth update in June 2004, and the fifth update in February 2007.

As requested by the USTR in a letter received on August 22, 2008, the Commission in this sixth update will include a summary of the major steps and results of U.S. trade liberalizing efforts since 1934 and the effects of liberalization as reported in the economic literature. The USTR asked that the summary be accessible to readers who may not be professional economists. As in previous reports in this series, the sixth update will continue to assess the economic effects of significant import restraints on U.S. consumers and firms, the income and employment of U.S. workers, and the net economic welfare of the United States. This assessment will use the Commission's computable general equilibrium model. However, as per earlier instructions from the USTR, the Commission will not assess import restraints resulting from antidumping or countervailing duty investigations, section 337 and 406 investigations, or section 301 actions.

Public Hearing: A public hearing in connection with this investigation will be held beginning at 9:30 a.m. on January 8, 2009, at the United States International Trade Commission, 500 E Street SW., Washington DC. Requests to appear at the hearing should be filed with the Secretary no later than 5:15 p.m., December 2, 2008, in accordance with the requirements in the “Written Submissions” section below. In the event that, as of the close of business on December 2, 2008, no witnesses are scheduled to appear at the hearing, the hearing will be canceled. Any person interested in attending the hearing as an observer or non-participant may call the Secretary to the Commission (202-205-2000) after December 2, 2008 to determine whether the hearing will be held.

Written Submissions: In lieu of or in addition to participating in the hearing, interested parties are invited to submit written statements or briefs concerning this investigation. All written submissions, including requests to appear at the hearing, statements, and briefs, should be addressed to the Secretary. Any pre-hearing statements or briefs should be filed not later than 5:15 p.m., December 11, 2008; and post-hearing statements and briefs and all other written submissions should be filed not later than 5:15 p.m., February 6, 2009. All written submissions must conform with the provisions of section 201.8 of the Commission's Rules of Practice and Procedure (19 CFR 201.8). Section 201.8 of the rules requires that a signed original (or a copy designated as an original) and fourteen (14) copies of each document be filed. In the event that confidential treatment of the document is requested, at least four (4) additional copies must be filed, in which the confidential information must be deleted (see the following paragraph for further information regarding confidential business information). The Commission's rules do not authorize filing submissions with the Secretary by facsimile or electronic means, except to the extent permitted by section 201.8 of the rules (see Handbook for Electronic Filing Procedures, http://www.usitc.gov/secretary/fed_reg_notices/rules/documents/handbook_on_electronic_filing.pdf ; persons with questions regarding electronic filing should contact the Secretary at 202-205-2000. Any submissions that contain confidential business information must also conform with the requirements of section 201.6 of the Commission's Rules of Practice and Procedure (19 CFR 201.6). Section 201.6 of the rules requires that the cover of the document and the individual pages be clearly marked as to whether they are the “confidential” or “non-confidential” version, and that the confidential business information be clearly identified by means of brackets. All written submissions, except for confidential business information, will be made available in the Office of the Secretary to the Commission for inspection by interested parties.

The USTR stated that her office intends to make the Commission's report in this investigation available to the public in its entirety and asked that the Commission not include any confidential business or national security information in this report. Consequently, the report that the Commission sends to the USTR will not contain any such information. Any confidential business information received by the Commission in this investigation and used in preparing its report will not be published in a manner that would reveal the operations of the firm supplying the information.

By order of the Commission.
Issued: October 10, 2008.
Marilyn R. Abbott,
Secretary to the Commission.

[FR Doc. E8-24607 Filed 10-16-08; 8:45 am]

BILLING CODE 7020-02-P